DEPARTMENT OF THE INTERIOR

National Park Service

[NPS-WASO-D-COS-POL-26719; PPWODIREP0][PPMVSCS1Y.Y00000]

Notice of a Teleconference Meeting of the Made in America Outdoor Recreation Advisory Committee on Friday, November 30, 2018

AGENCY: National Park Service, Interior.

ACTION: Notice.

SUMMARY: In accordance with the Federal Advisory Committee Act of 1972, the National Park Service is hereby giving notice that the Made in America Outdoor Recreation Advisory Committee (Committee) will meet by teleconference as noted below. Members of the public may attend the teleconference meeting in person in Washington, DC to listen to the proceedings.

DATES: The teleconference meeting will be held on Friday, November 30, 2018, from 11:00 a.m. to 1:00 p.m., EST.

ADDRESSES: The teleconference meeting will be conducted in the South Penthouse of the Stewart Lee Udall Department of the Interior Building, 1849 C Street NW, Washington, DC 20240, telephone 202-354-3950.

FOR FURTHER INFORMATION CONTACT: Shirley Sears, Office of Policy, National Park Service, 1849 C Street NW, Mail Stop 2659, Washington, DC 20240, telephone number 202-354-3955, or email shirley_sears@nps.gov.

SUPPLEMENTARY INFORMATION: The Committee will meet to receive and deliberate the report of its Subcommittee on Recreation Enhancement Through Reorganization, and to receive status updates from its subcommittees on Partnership and Collaboration, Public Access and Infrastructure, and Technology and the Digital Experience. The Committee meeting will be open to the public in the same way as all committee meetings are open to the public. Space and facilities to accommodate the public are limited and attendees will be accommodated on a first-come basis. Opportunity for oral comment will be limited to no more than 3 minutes per speaker and no more than 15 minutes total. The Committee Chair will determine how time for oral comments will be allocated.

Anyone may file with the Committee a written statement concerning matters to be discussed.

Public Disclosure of Information: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2018-24863 Filed 11-14-18; 8:45 am]

BILLING CODE 4312-52-P